SURFACE TRANSPORTATION BOARD

[Docket No. FD 36871]

Arkansas-Oklahoma Railroad, Inc.—Lease and Operation Exemption Including Interchange Commitment—BNSF Railway Company, Inc.

Arkansas-Oklahoma Railroad, Inc. (AOK), a Class III railroad, has filed a verified notice of exemption under 49 CFR 1150.41 to extend its lease with BNSF Railway Company, Inc. (BNSF), of approximately 10.658 miles of rail line extending between milepost 134.037 and milepost 123.379 on BNSF's Shawnee Industrial Spur in Shawnee, Okla. (the Line).

According to the verified notice, AOK is the current operator on the Line, having received authority to lease and operate the Line in 2021. See Ark.-Okla. R.R.—Lease & Operation Exemption with Interchange Commitment—BNSF Ry., FD 36534 (STB served Sept. 10, 2021). AOK states that it has an agreement with BNSF to enter into a second amendment to the lease to extend its term and that AOK will continue as the operator on the Line after the transaction.

AOK certifies that the lease contains an interchange commitment.¹ Accordingly, AOK has provided additional information regarding the interchange commitment, as required by 49 CFR 1150.43(h).

¹ Concurrent with the initial filing of its verified notice of exemption, AOK filed, under seal, portions of the amended lease. See 49 CFR 150.43(h)(1) (providing that certain information related to interchange commitments, such as copies of agreements, will be kept confidential without an accompanying motion for a protective order). In a supplement filed on September 4, 2025, AOK provided, under seal, a portion of the lease that was missing from its initial filing.

AOK certifies that its projected revenues as a result of the transaction will not exceed those that would qualify it as a Class III rail carrier, but that its current annual revenues exceed $5 million. Pursuant to 49 CFR 1150.42(e), if a carrier's projected annual revenues will exceed $5 million, it must, at least 60 days before the exemption is to become effective, post a notice of its intent to undertake the proposed transaction at the workplace of the employees on the affected lines, serve a copy of the notice on the national offices of the labor unions with employees on the affected lines, and certify to the Board that it has done so. AOK, however, has petitioned for waiver of the 60-day advance labor notice requirements. AOK's waiver request will be addressed in a separate decision. The Board will establish the effective date of the exemption in its decision on the waiver request.

If the verified notice contains false or misleading information, the exemption is void ab initio. Petitions to revoke the exemption under 49 U.S.C. 10502(d) may be filed at any time. The filing of a petition to revoke will not automatically stay the effectiveness of the exemption. Petitions to stay must be filed no later than September 17, 2025.

All pleadings, referring to Docket No. FD 36871, must be filed with the Surface Transportation Board either via e-filing on the Board's website or in writing addressed to 395 E Street SW, Washington, DC 20423-0001. In addition, a copy of each pleading must be served on AOK's representative, Justin J. Marks, Clark Hill PLC, 1001 Pennsylvania Avenue NW, Suite 1300 South, Washington, DC 20004.

According to AOK, this action is categorically excluded from environmental review under 49 CFR 1105.6(c) and from historic preservation reporting requirements under 49 CFR 1105.8(b).

Board decisions and notices are available at www.stb.gov.

Decided: September 5, 2025.
By the Board, Anika S. Cooper, Chief Counsel, Office of Chief Counsel.
Brendetta Jones,
Clearance Clerk.

[FR Doc. 2025-17388 Filed 9-9-25; 8:45 am]

BILLING CODE 4915-01-P